FEDERAL RESERVE SYSTEM

Agency Information Collection Activities: Announcement of Board Approval Under Delegated Authority and Submission to OMB

SUMMARY: Background: Notice is hereby given of the final approval of proposed information collection(s) by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer--Mary M. West--Division of Research and Statistics, Board of Governors of the Federal Reserve System, Washington, DC 20551 (202-452-3829); OMB Desk Officer--Alexander T. Hunt--Office of Information and Regulatory Affairs, Office of Management and Budget, New Executive Office Building, Room 3208, Washington, DC 20503 (202-395-7860)

Final approval under OMB delegated authority of the extension for three years, without revision, of the following reports:

1. Report titles: Registration Statement for Persons Who Extend Credit Secured by Margin Stock (Other Than Banks, Brokers, or Dealers); Deregistration Statement for Persons Registered Pursuant to Regulation U; Statement of Purpose for an Extension of Credit Secured by Margin Stock by a Person Subject to Registration Under Regulation U; Annual Report; Statement of Purpose for an Extension of Credit by a Creditor; and Statement of Purpose for an Extension of Credit Secured by Margin Stock

Agency form numbers: FR G-1, FR G-2, FR G-3, FR G-4, FR T-4, FR U-1

OMB control numbers: 7100-0011: FR G-1, FR G-2, FR G-4; 7100-0018: FR G-3; 7100-0019: FR T-4; and 7100-0115: FR U-1

Frequency: FR G-1, FR G-2, FR G-3, FR T-4, and FR U-1: on occasion FR G-4: annual

Reporters: Individuals and business

Annual reporting hours: 1,901 reporting; 252,978 recordkeeping

Estimated average hours per response: FR G-1: 2.5 hours; FR G-2: 15 minutes; FR G-3: 10 minutes; FR G-4: 2.0 hours; FR T-4: 10 minutes; and FR U-1: 10 minutes

Number of respondents: FR G-1: 98; FR G-2: 65; FR G-3: 500; FR G-4: 820; FR T-4: 250; and FR U-1: 6,971

Small businesses are affected.

General description of report: These information collections are mandatory (15 U.S.C. 78g). The information in the FR G-1 and FR G-4 is given confidential treatment (5 U.S.C. 552(b)(4)). The FR G-2 does not contain confidential information. The FR G-3, FR T-4, and FR U-1 are not submitted to the Federal Reserve and, as such, no issue of confidentiality arises.

Abstract: The Securities Exchange Act of 1934 ('34 Act) authorizes the Board to regulate securities credit issued by banks, brokers and dealers, and other lenders. The purpose statements, FR U-1, FR T-4, and FR G-3, are recordkeeping requirements for banks, brokers and dealers, and other lenders, respectively, to document the purpose of their loans secured by margin stock. Other lenders also must register and deregister with the Federal Reserve using the FR G-1 and FR G-2, respectively, and must file an annual report (FR G-4). The Federal Reserve uses the data to identify lenders subject to Regulation U, to verify compliance with Regulations T, U, and X, and to monitor margin credit.

Final approval under OMB delegated authority the extension for three years, with revision, of the following reports:

1. Report title: Annual Daylight Overdraft Capital Report for U.S. Branches and Agencies of Foreign Banks

Agency form number: FR 2225

OMB control number: 7100-0216

Frequency: Annual

Reporters: foreign banks with U.S. branches or agencies

Annual reporting hours: 44

Estimated average hours per response: 1.0

Number of respondents: 44

Small businesses are not affected.

General description of report: This information collection is voluntary (12 U.S.C. 248(i), 248-l, and 464) and is not given confidential treatment.

Abstract: This report was implemented in March 1986 as part of the procedures used to administer the Federal Reserve Board's Payments System Risk (PSR) policy. A key component of the PSR policy is a limit, or a net debit cap, on an institution's negative intraday balance in its Federal Reserve account. The Federal Reserve calculates an institution's net debit cap by applying the multiple associated with the net debit cap category to the institution's capital. For foreign banking organizations (FBOs), a percentage of the FBO's capital measure, known as the U.S. capital equivalency, is used to calculate the FBO's net debit cap. Currently, an FBO with U.S. branches or agencies may voluntarily file the FR 2225 to provide the Federal Reserve with its capital measure. Because an FBO that files the FR 2225 may be able to use its total capital in the net debit cap calculation, an FBO seeking to maximize its daylight overdraft capacity may find it advantageous to file the FR 2225. An FBO that does not file FR 2225 may use an alternative capital measure based on its nonrelated liabilities.

Current Actions: On January 29, 2002, the Board published proposed changes to this information collection and the comment period ended April 1, 2002 (67 FR 4258). There were no public comments received. The Board has approved the changes, as originally proposed.

The Federal Reserve Board has revised its PSR policy regarding the calculation of an FBO's net debit cap, described in detail in the Federal Register notice published December 13, 2001 (66 FR 64419). The revised PSR policy modifies the criteria used to determine the U.S. capital equivalency for an FBO. There are no changes to the FR 2225 reporting form; however, the reporting instructions will be modified to correspond with the revised policy. The revisions to the FR 2225 instructions are summarized below.

The revised PSR policy (1) eliminates the Basle Capital Accord (BCA) criteria and replaces it with the strength of support assessment (SOSA) rankings and financial holding company (FHC) status in determining U.S. capital equivalency for an FBO, (2) raises the percentage of capital used in calculating U.S. capital equivalency for certain FBOs, and (3) revises the definition of an alternative measure for U.S. capital equivalency. The SOSA ranking is composed of four factors, including the FBO's financial condition and prospects, the system of supervision in the FBO's home country, the record of the home country's government in support of the banking system or other sources of support for the FBO; and transfer risk concerns. Transfer risk relates to the FBO's ability to access and transmit U.S. dollars, which is an essential factor in determining whether an FBO can support its U.S. operations. The SOSA ranking is based on a scale of 1 through 3, with 1 representing the lowest level of supervisory concern.

Specifically, the revised PSR policy allows U.S. capital equivalency to equal the following:

• 35 percent of capital for FBOs that are FHCs

• 25 percent of capital for FBOs that are not FHCs and have a strength of support assessment ranking (SOSA) of 1

• 10 percent of capital for FBOs that are not FHCs and are ranked a SOSA 2

• 5 percent of “net due to related depository institutions” for FBOs that are not FHCs and are ranked a SOSA 3.

2. Report title: Report of Net Debit Cap

Agency form number: FR 2226

OMB control number: 7100-0217

Frequency: Annual

Reporters: depository institutions, Edge and agreement corporations, U.S. branches and agencies of foreign banks

Annual reporting hours: 1,902

Estimated average hours per response: 1.0

Number of respondents: 1,902

Small businesses are not affected.

General description of report: This information collection is mandatory (12 U.S.C. 248(i), 248-l, and 464) and may be accorded confidential treatment under the Freedom of Information Act (5 U.S.C. 552 (b)(4)).

Abstract: The Federal Reserve Board's Payment System Risk (PSR) policy relies in part on the efforts of individual institutions to identify, control, and reduce their exposure. The Federal Reserve collects these resolutions annually to provide information that is essential for their administration of the PSR policy. The Report of Net Debit Cap comprises three resolutions, located in Appendix B of the Guide to the Federal Reserve's Payments System Risk Policy, which are filed by an institution's board of directors depending on the institution's needs. Two of the three resolutions are used by institutions to establish a capacity for daylight overdrafts that is greater than the capacity that is typically assigned by a Reserve Bank. The first resolution is used to establish a self-assessed net debit cap, whereas the second resolution is used to establish a de minimis net debit cap. The third resolution is used by institutions to establish an interaffiliate transfer arrangement.

Current Actions: On January 29, 2002, the Board published proposed changes to this information collection and the comment period ended April 1, 2002 (67 FR 4258). There were no public comments received. The Board has approved the changes, as originally proposed.

The Federal Reserve Board has revised its PSR policy regarding additional collateralized capacity and interaffiliate transfer arrangements described in detail in the Federal Register notice published December 13, 2001 (66 FR 64419). The Federal Reserve will add a two-part model resolution to Appendix B used to establish additional collateralized capacity and eliminate the model resolution used to establish an interaffiliate transfer arrangement. In addition, the order of the model resolutions in Appendix B will be changed. The revisions are described below in detail.

Revisions to Appendix B

• Collateralized Capacity (3a) - Depository institutions with self-assessed net debit caps that request additional daylight overdraft capacity must submit, to their Administrative Reserve Banks, written justification to support the request for the additional capacity. In evaluating a depository institution's request, the Administrative Reserve Bank will review the institution's daylight overdraft levels and financial condition. If the Administrative Reserve Bank approves the request, the depository institution will need to file the collateralized capacity resolution. This resolution was designed to specify the amount, if any, of Reserve Bank approved collateral pledged and the maximum daylight overdraft capacity amount.

• Collateralized Capacity: Supplement for Securities In-transit (3b) - If a depository institution has been approved to receive additional collateralized daylight overdraft capacity and pledges securities in transit to support the additional capacity, the depository institution will need to file a new resolution 3b. The Administrative Reserve Bank may accept securities in transit on the Fedwire book-entry securities system as collateral to support an institution's maximum daylight overdraft capacity level. Securities in transit refer to book-entry securities transferred over Fedwire's National Book-Entry System that have been purchased by a depository institution, but not yet paid for and owned by the institution's customers. In transit collateral differs from stable pool collateral in that the value of in transit collateral regularly fluctuates intraday where as the value of stable pool generally does not.

• Inter-Affiliate Transfer Arrangements - The rescission of the interaffiliate transfer policy rule is effective on December 31, 2001, at which time depository institutions will no longer be required to submit a resolution to establish an interaffiliate agreement.

The order of the model resolutions located in Appendix B will be changed to:

• De Minimis Cap

• Self-Assessment Cap

• Collateralized Capacity (3a)

• Collateralized Capacity: Supplement for Securities In-transit (3b)

3. Report titles: Application for Prior Approval to Become a Bank Holding Company, or for a Bank Holding Company to Acquire an Additional Bank or Bank Holding Company; Notice for Prior Approval to Become a Bank Holding Company, or for a Bank Holding Company to Acquire an Additional Bank or Bank Holding Company; and Notification for Prior Approval to Engage Directly or Indirectly in Certain Nonbanking Activities.

Agency form numbers: FR Y-3, FR Y-3N, and FR Y-4

OMB control number: 7100-0121

Frequency: Event-generated

Reporters: Corporations seeking to become bank holding companies, or bank holding companies and state chartered banks that are members of the Federal Reserve System

Annual reporting hours: 22,003

Estimated average hours per response: FR Y-3, Section 3(a)(1): 49 hours;

FR Y-3, Section 3(a)(3) and 3(a)(5): 59.5 hours;

FR Y-3N, Sections 3(a)(1), 3(a)(3), and 3(a)(5): 5 hours;

FR Y-4, complete notification: 12 hours;

FR Y-4, expedited notification: 5 hours; and

FR Y-4, post-consummation: 0.5 hours.

Number of respondents: 823

Small businesses are affected.

General description of reports: This information collection is mandatory (12 U.S.C. 1842(a)(1), 1844(c), and 1843(c)(8)) and may be accorded confidential treatment under the Freedom of Information Act (5 U.S.C. 552 (b)(4)).

Abstract: The Federal Reserve requires the application and the notifications for regulatory and supervisory purposes and to allow the Federal Reserve to fulfill its statutory obligations under the Bank Holding Company Act of 1956 (the BHC Act). The forms collect information concerning proposed BHC formations, acquisitions, and mergers, and proposed nonbanking activities. The Federal Reserve must obtain this information to evaluate each individual transaction with respect to permissibility, competitive effects, adequacy of financial and managerial resources, net public benefits, and impact on the convenience and needs of affected communities.

Current Actions: On January 29, 2002, the Board published proposed changes to this information collection and the comment period ended April 1, 2002 (67 FR 4257). There were no public comments received. The Board has approved the changes, as originally proposed.

Board of Governors of the Federal Reserve System, April 17, 2002.

Jennifer J. Johnson,
Secretary of the Board.

[FR Doc. 02-9864 Filed 4-22-02; 8:45 am]

BILLING CODE 6210-01-S